DEPARTMENT OF ENERGY

Federal Energy Regulatory Commission

Notice of Intent To File Application for a New License

October 20, 2000.

Take notice that the following notice of intent has been filed with the Commission and is available for public inspection:

a. Type of filing: Notice of Intent to File an Application for New License.

b. Project No: 2114-000.

c. Date filed: September 28, 2000.

d. Submitted By: Public Utility District No. 2 of Grant County, Washington.

e. Name of Project: Priest Rapids Hydroelectric Project.

f. Location: On the Columbia River, in Grant, Yakima, Kittitas, Douglas, Benton and Chelan Counties, Washington. The project does not occupy Federal lands.

g. Filed Pursuant to: Section 15 of the Federal Power Act, 18 CFR 16.6.

h. Pursuant to section 16.19 of the Commission's regulations, the licensee is required to make available the information described in section 16.7 of the regulations. Such information is available from the licensee at Public Utility District No. 2 of Grant County, Washington, P.O. Box 878, 30 C Street, SW. Contact Mona Kaiser at 509-754-5017 or email: mkaiser@gcpud.org

i. FERC Contact: Charles Hall, (202) 219-2853, Charles.Hall@ferc.fed.us

j. Expiration Date of Current License: October 31, 2005.

k. Project Description: The project consists of two existing developments: Wanapum and Priest Rapids. Each development includes a dam, reservoir, spillway structures, powerhouse integral with the dam, generators, turbines and other project lands and structures useful in the operation of the project and all appropriative, riparian, and other rights. Priest Rapids and Wanapum each have 10 turbine generators with capacities of 855,600 kilowatts (kW) and 900,000 kW, respectively, for an authorized total installed capacity of 1,755,000 kW.

l. The licensee states its unequivocal intent to submit an application for a new license for Project No. 2114. Pursuant to 18 CFR 16.9(b)(1) each application for a new license and any competing license applications must be filed with the Commission at least 24 months prior to the expiration of the existing license. All applications for license for this project must be filed by October 31, 2003.

m. A copy of the notice of intent is available for inspection and reproduction at the Commission's Public Reference Room, located at 888 First Street, NE, Room 2A, Washington, DC 20426, or by calling (202) 208-1371. The notice may be viewed on http://www.ferc.fed.us/online/rims.htm (call (202) 208-2222 for assistance). A copy is also available for inspection and reproduction at the address in item h above.

David P. Boergers,
Secretary.

[FR Doc. 00-27490 Filed 10-25-00; 8:45 am]

BILLING CODE 6717-01-M